NUCLEAR REGULATORY COMMISSION

Regulatory Guide: Withdrawal

AGENCY: Nuclear Regulatory Commission.

ACTION: Regulatory Guide: Withdrawal.

FOR FURTHER INFORMATION CONTACT: John N. Ridgely, U.S. Nuclear Regulatory Commission, Washington, DC 20555-0001, Telephone: (301) 415-6555 or e-mail JNR@nrc.gov.

SUPPLEMENTARY INFORMATION:

I. Introduction

The Nuclear Regulatory Commission (NRC) is withdrawing Regulatory Guide (RG) 1.49, “Power Levels of Nuclear Power Plants,” which was issued in response to a NRC Commission policy statement dated March 5, 1973. Revision 1 of the RG was issued in December 1973. The RG established the normal operating core thermal power level of 3800 megawatts as the limit for any nuclear power plant until January 1, 1979. This limit was set to encourage greater standardization of nuclear power plants and to stabilize the maximum size of nuclear plants until sufficient experience was gained with the design, construction, and operation of large plants. Since 1979, substantial experience has been gained with large power plants and standardization of plant designs has proceeded by use of the design certification process. The staff has approved plant designs with the core thermal operating power levels in excess of 3800 megawatts and has approved increased core thermal operating power levels for existing operating plants on a case-by-case basis. The staff has determined that RG 1.49 is no longer necessary. Furthermore, it is not referenced by any other documents in association with nuclear plant licensing actions.

II. Further Information

Withdrawal of RG 1.49 does not, in and of itself, alter any prior or existing licensing commitments based on its use. The guidance provided in this RG is no longer applicable. Regulatory guides may be withdrawn when methods and techniques no longer define an acceptable approach to comply with NRC regulations or otherwise do not provide useful information.

Regulatory guides are available for inspection or downloading through the NRC's public Web site in the Regulatory Guides document collection of the NRC's Electronic Reading Room at http://www.nrc.gov/reading-rm/doc-collections. Regulatory guides are also available for inspection at the NRC's Public Document Room (PDR), Room O-1F21, One White Flint North, 11555 Rockville Pike, Rockville, Maryland. The PDR's mailing address is USNRC PDR, Washington, DC 20555-0001. The PDR staff can be reached by telephone at (301) 415-4737 or (800) 397-4209, by fax at (301) 415-3548, and by e-mail to PDR@nrc.gov.

Regulatory guides are not copyrighted, and NRC approval is not required to reproduce them. (5 U.S.C. 552(a))

Dated at Rockville, Maryland, this 27th day of June 2007.
For the Nuclear Regulatory Commission.
Brian W. Sheron,
Director, Office of Nuclear Regulatory Research.

[FR Doc. E7-12980 Filed 7-3-07; 8:45 am]

BILLING CODE 7590-01-P